DEPARTMENT OF COMMERCE

National Oceanic and Atmospheric Administration

50 CFR Part 622

[I.D. 092200A]

Gulf of Mexico Fishery Management Council; Public Hearings

AGENCY: National Marine Fisheries Service (NMFS), National Oceanic and Atmospheric Administration (NOAA), Commerce.

ACTION: Public hearings; request for comments.

SUMMARY: The Gulf of Mexico Fishery Management Council (Council) will convene public hearings on draft Amendment 7 to the Fishery Management Plan for the Stone Crab Fishery of the Gulf of Mexico. Amendment 7 proposes to create a Federal trap certificate program for the commercial stone crab fishery in Federal waters (exclusive economic zone (EEZ)) off Florida. This program would be similar to the trap certificate program adopted by the State of Florida. In addition, public testimony on Amendment 7 will be accepted at the Gulf Council meeting in November 2000. A separate Federal Register notice will give details about that meeting.

DATES: The Council will accept written comments through November 3, 2000. The public hearings will be held in October 2000. See SUPPLEMENTARY INFORMATION for specific dates and times of the public hearings.

ADDRESSES:

Written comments should be sent to Mr. Wayne E. Swingle, Executive Director, Gulf of Mexico Fishery Management Council, 3018 U.S. Highway 301, North, Suite 1000, Tampa, FL 33619. Copies of draft Amendment 7 are available from Mr. Wayne E. Swingle, Executive Director, Gulf of Mexico Fishery Management Council, 3018 U.S. Highway 301, North, Suite 1000, Tampa, FL 33619; telephone: 813-228-2815; fax: 813-769-4520. The public hearings will be held in Marathon and Crystal River, FL (For specific locations, see SUPPLEMENTARY INFORMATION).

FOR FURTHER INFORMATION CONTACT: Mr. Wayne E. Swingle, Executive Director, Gulf of Mexico Fishery Management Council, 3018 U.S. Highway 301, North, Suite 1000, Tampa, FL 33619; telephone: 813-228-2815.

SUPPLEMENTARY INFORMATION: The public hearings will be convened to take public comment on draft Amendment 7. Draft Amendment 7 would create a Federal trap certificate program for the commercial stone crab fishery in the EEZ off Florida. This program would be similar to the trap certificate program adopted by the State of Florida.

A summary of the proposed Amendment 7 Federal stone crab trap certificate program follows:

1. The Federal program would recognize the Florida stone crab license and tags for use in the EEZ but would not require them.

2. Persons who could not obtain or chose not to obtain the state license/tags could apply for a Federal vessel permit, trap certificate, and trap tags.

3. The same qualifying criteria would apply for obtaining the Federal vessel permit/trap certificate/trap tags as apply for obtaining the state license/tags (i.e., 300 lb (136.1 kg) of claws landed in one of the six fishing seasons 1993/1994 through 1998/1999). The end of the draft Amendment 7 qualifying period would be May 15, 1999.

4. Persons would have 90 days to apply for a Federal vessel permit/trap certificate/trap tags after the effective date of implementation of the final rule.

5. Persons qualifying would be issued a Federal vessel permit/trap certificate/trap tags based on their landings divided by 5 lb (2.3 kg), which is the annual harvest level that would occur when the number of traps is reduced to the optimum level of 600,000 traps.

6. Federal vessel permits, trap certificates, and tags would be non-transferrable.

7. It is anticipated that the cost of the Federal trap tags would be higher than the cost of the state trap tags (i.e., $1.10 vs $0.50).

8. Draft Amendment 7 includes a Federal appeals process allowing fishermen to appeal denied applications for a Federal vessel permit/trap certificate/trap tags.

Time and Location for Public Hearings

Public hearings for draft Amendment 7 will be held at the following locations, dates, and times:

1. October 16, 2000, 7 p.m., Marathon Government Center, BOCC Room, 2798 Overseas Highway MM 47.5, Marathon, FL 33050; telephone: 305-295-4385.

2. October 18, 2000, 7 p.m., Plantation Inn & Gulf Resort, 9301 West Fort Island Trail, Crystal River, FL 34429; telephone: 352-795-4211.

Special Accommodations

These meetings are physically accessible to people with disabilities. Requests for sign language interpretation or other auxiliary aids should be directed to Anne Alford at the Council (see ADDRESSES) by November 3, 2000.

Dated: October 3, 2000.
Clarence Pautzke,
Director, Office of Sustainable Fisheries, National Marine Fisheries Service.

[FR Doc. 00-25957 Filed 10-6-00; 8:45 am]

BILLING CODE 3510-22-S